DEPARTMENT OF THE INTERIOR

Bureau of Land Management

[212LLAK941200.L1440000.ET0000;AKAA-95542]

Notice of Application for Withdrawal and Opportunity for Public Meeting for the Mendenhall Glacier Recreation Area, Alaska

AGENCY: Bureau of Land Management, Interior.

ACTION: Notice.

SUMMARY: The U.S. Forest Service (USFS) filed an application with the Bureau of Land Management (BLM) requesting that the Secretary of the Interior withdraw 4,560 acres of National Forest System land for the Mendenhall Glacier Recreation Area. The USFS requests the withdrawal as the receding Mendenhall Glacier leaves additional lands unprotected by the existing withdrawal created by Public Land Order (PLO) No. 829. This Notice segregates these lands for up to two years from location and entry under United States mining laws and leasing under the mineral leasing laws, subject to valid existing rights. The land will remain open to other uses at the discretion of the Authorized Officer.

DATES: Comments and requests for a public meeting must be received by September 7, 2021.

ADDRESSES: All comments and meeting requests should be mailed to the BLM Alaska State Office, 222 West Seventh Avenue, No. 13, Anchorage, Alaska 99513-7504. The BLM will not consider comments received via telephone calls.

FOR FURTHER INFORMATION CONTACT: Chelsea Kreiner, BLM Alaska State Office, 907-271-4205, email ckreiner@blm.gov. Persons who use a telecommunications device for the deaf (TDD) may call the Federal Relay Service (FRS) at 1-800-877-8339 to contact the above individual. The FRS is available 24 hours a day, 7 days a week, to leave a message or question with the above individual. You will receive a reply during normal business hours.

SUPPLEMENTARY INFORMATION: On April 8, 2019, the USFS filed an application for the Secretary of the Interior to withdraw the following National Forest System land from location and entry under the United States mining laws and leasing under the mineral leasing laws, subject to valid existing rights:

Copper River Meridian, Alaska

Tongass National Forest

T. 39 S., Rs. 65 and 66 E., more particularly described as follows:

BEGINNING at Corner No. 2, U.S. Survey No. 1536, Alaska.

THENCE, along the record courses of PLO 829, N 18° 30′ W, a distance of 160 chains;

THENCE, N 55° 00′ E, a distance of 100 chains, to the POINT OF BEGINNING of the Mendenhall Withdrawal;

THENCE, N 26° 00′ E, a distance of 110 chains;

THENCE, N 78° 30′ E, a distance of 260 chains;

THENCE, S 8° 30′ E, a distance of 133 chains;

THENCE, S 33° 00′ W, a distance of 90 chains;

THENCE, S 77° 00′ W, a distance of 101 ± chains, to the boundary of PLO 829;

THENCE, along said boundary on the following courses, N 20° 00′ W, a distance of 24 ± chains;

THENCE, N 45° 00′ W, a distance of 80 chains;

THENCE, West, a distance of 110 chains, to the POINT OF BEGINNING of the Mendenhall Withdrawal, containing 4,560 ± acres.

The use of a rights-of-way, interagency agreement, or cooperative agreement would not provide adequate protection for the existing and planned development over a large area from impacts related to location and development of mining claims or mineral leasing activities.

The land for this withdrawal adjoins PLO 829, dated May 10, 1952, for the Tongass National Forest Mendenhall Lake Scenic and Winter Sports Area. Water is critical to this withdrawal for both recreation and visual purposes. The Mendenhall Glacier and Mendenhall Lake are the focal point and basis for the USFS recreation development and facilities at this site. The USFS is requesting the Secretary to include in the withdrawal area both the glacier and lake which is coming into exposure with the retreating glacier.

All persons who wish to submit comments, suggestions, or objections in connection with the proposed withdrawal may present their views in writing to the BLM. Records relating to the application may be examined by contacting the BLM Alaska State Office at the address above.

The Notice is hereby given that an opportunity for a public meeting is in connection with this withdrawal. All persons who desire a public meeting for the purpose of being heard on the withdrawal must submit a written request to the BLM Alaska State Director within 90 days from the date of publication of this Notice. Upon determination by the authorized officer that a public meeting will be held, a notice of the time and place will be published in the Federal Register and at least one local newspaper before the scheduled date of the meeting.

Comments, including name and street address of respondents, will be available for public review at the BLM Alaska State Office at the address in the ADDRESSES section above during regular business hours, 08:00 a.m. to 4:00 p.m., Monday through Friday, except Federal holidays.

Before including your address, phone number, email address, or other personal identifying information in your comment, you should be aware that your entire comment including your personal identifying information may be made publicly available at any time. While you can ask us in your comment to withhold your personal identifying information from public review, we cannot guarantee that we will be able to do so. For a period of two years from the date of publication of this Notice in the Federal Register, the land specified above will be segregated from location and entry under United States mining laws and leasing under the mineral leasing laws, subject to valid existing rights, unless the application is denied or canceled, or the withdrawal is approved prior to that date.

Although the land will be segregated from location and entry under United States mining laws and leasing under the mineral leasing laws, subject to valid existing rights, the land will continue to be managed in accordance with the various acts that govern occupancy and use of National Forest System lands. The authorized officer may, at his or her discretion, permit temporary uses of the land during this period of segregation that do not interfere with the use of the land intended by the USFS.

The withdrawal application will be processed in accordance with the regulations set-forth in 43 CFR part 2300.

Authority: 43 CFR 2310.3-1.

Chad Padgett,
State Director.

[FR Doc. 2021-11791 Filed 6-4-21; 8:45 am]

BILLING CODE 4310-JA-P